DEPARTMENT OF ENERGY

Federal Energy Regulatory Commission

[Docket No. RP98-43-013]

Anadarko Gathering Company; Notice of Refund Report

October 12, 2000.

Take notice that on May 18, 2000, Anadarko Gathering Company (AGC) tendered for filing its 1999 Kansas Ad Valorem Tax Annual Report in the above-referenced docket pursuant to the Commission's Order Denying Petitions for Adjustment and Establishing Procedures for the Payment of Refunds, issued September 10, 1997, in Docket No. RP97-369-000, et. al. (September 10, 1997 Order).

AGC states that the information provided in the May 1999 Annual Report has not changed in the past twelve months. Thus AGC incorporates by reference therein the May 1999 Annual Report and respectfully requests that the Commission accept its letter filing as being in compliance with the Ordering Paragraph (E) of the September 10, 1997 Order.

AGC states that copies of its filing have been provided to all parties and the Kansas Corporation Commission.

Any person desiring to protest said filing should file a protest with the Federal Energy Regulatory Commission, 888 First Street, N.W., Washington, D.C. 20426, in accordance with Section 385.211 of the Commission's Rules and Regulations. All such protests must be filed on or before October 23, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-26699 Filed 10-17-00; 8:45 am]

BILLING CODE 6717-01-M